DEPARTMENT OF HEALTH AND HUMAN SERVICES

Meeting of the President's Council on Sports, Fitness, and Nutrition

AGENCY: Office of Disease Prevention and Health Promotion, Office of the Assistant Secretary for Health, Office of the Secretary, Department of Health and Human Services.

ACTION: Notice of meeting.

SUMMARY: As stipulated by the Federal Advisory Committee Act, the U.S. Department of Health and Human Services (HHS) is hereby giving notice that the President's Council on Sports, Fitness, and Nutrition (PCSFN) will hold its annual meeting. The meeting will be open to the public.

DATES: The meeting will be held on September 19, 2019, from 1:00 p.m. to 4:30 p.m.

ADDRESSES: The Hubert H. Humphrey Building, the Great Hall, 200 Independence Ave. SW, Washington, DC 20201.

FOR FURTHER INFORMATION CONTACT: Jennifer Anne Bishop, Designated Federal Officer for the PCSFN, 1101 Wootton Parkway, Suite 420, Rockville, MD 20852, (240) 453-8826. Information about PCSFN, including details about the upcoming meeting, can be obtained at www.fitness.gov.

SUPPLEMENTARY INFORMATION: The primary functions of the PCSFN include: (1) Advising the President, through the Secretary, concerning progress made in carrying out the provisions of Executive Order 13265, as amended by Executive Order 13824, and recommending to the President, through the Secretary, actions to accelerate such progress; and (2) recommending to the Secretary actions to expand opportunities at the national, state, and local levels for participation in sports and engagement in physical fitness and activity, taking into account the Department of Health and Human Services' Physical Activity Guidelines for Americans, including consideration for youth with disabilities. Recommendations may address, but are not necessarily limited to: Increasing awareness of the benefits of participation in sports and regular physical activity and good nutrition; promoting private and public sector strategies to increase participation in sports; identifying metrics to gauge youth sports participation and physical activity; and discussing a national and local strategy to recruit volunteers who will support youth participation in sports and regular physical activity.

The Council shall meet, at a minimum, once per fiscal year. At the September 2019 meeting, the Council will (1) discuss activities related to a HHS National Youth Sports Strategy; and (2) discuss actions to expand opportunities at the national, state, and local levels for participation in sports and engagement in physical fitness. The meeting agenda is in development and will be posted at www.fitness.gov when it is finalized. The meeting on September 19, 2019, is open to the public and the media. HHS will also stream the meeting online via HHS.gov/live. Every effort will be made to provide reasonable accommodations for individuals with disabilities and/or special needs who wish to attend the meeting. Individuals who require accommodations should call (240) 276-9567 to submit a request, no later than 5:00 p.m. (Eastern Time) on Monday, September 9, 2019. Members of the public who wish to attend the meeting in-person must pre-register by emailing rsvp.fitness@hhs.gov or by calling (240) 276-9567. Registration for in-person public attendance must be completed before 5:00 p.m. (Eastern Time) on Wednesday, September 11, 2019. Foreign nationals who wish to attend in-person should register no later than Tuesday, September 3, 2019 to ensure sufficient time for federal building security approval.

Dated: August 16, 2019.
Don Wright,
Deputy Assistant Secretary for Health, Office of Disease Prevention and Health Promotion.

[FR Doc. 2019-18726 Filed 8-28-19; 8:45 am]

BILLING CODE 4150-32-P